DEPARTMENT OF TRANSPORTATION

Federal Aviation Administration

Notice of Intent of Waiver With Respect to Land; Extension of Comment Period Indianapolis Downtown Heliport, Indianapolis, IN

AGENCY: Federal Aviation Administration (FAA), DOT.

ACTION: Notice.

SUMMARY: On January 13, 2026, the Federal Aviation Administration (FAA) published a notice seeking further public comment on a proposal to permanently close the Indianapolis Downtown Heliport and change 5.36 acres of land from aeronautical use to non-aeronautical use and to authorize the sale of all heliport property located at the Indianapolis Downtown Heliport (8A4), Indianapolis, Indiana. The comment period for the notice was scheduled to end on February 12, 2026. FAA received a request to extend the comment period. The FAA is extending the comment period for the January 13, 2026, notice by 14 days.

DATES: The comment period to the notice published on January 13, 2026, at 91 FR 1371, is extended from February 12, 2026, to February 26, 2026.

ADDRESSES: All requisite and supporting documentation will be made available for review by appointment at the FAA Chicago Airports District Office, Melanie Myers, Program Manager, 2300 East Devon Avenue, Des Plaines, IL 60018, Telephone: (847) 294-7525.

Written comments on the Sponsor's request may be submitted using any of the following methods:

• Federal eRulemaking Portal: Go to https://www.regulations.gov, and follow the instructions for sending your comments electronically.

• Mail: Melanie Myers, Program Manager, Federal Aviation Administration, Chicago Airports District Office, 2300 East Devon Avenue, Des Plaines, IL 60018.

• Hand Delivery: Deliver to mail address above between 8 a.m. and 5 p.m. Monday through Friday, excluding Federal holidays.

FOR FURTHER INFORMATION CONTACT: Melanie Myers, Program Manager, Federal Aviation Administration, Chicago Airports District Office, 2300 East Devon Avenue, Des Plaines, IL 60018, Telephone: (847) 294-7525.

SUPPLEMENTARY INFORMATION: On January 13, 2026, the FAA published a notice in the Federal Register seeking further public comments on the proposed permanent closure of 8A4 and change of 5.36 acres of land from aeronautical use to non-aeronautical use and to authorize the sale of all heliport property located at the Heliport (91 FR 1371). The January 13, 2026, notice stated that the comment period would close on February 12, 2026. The FAA received a request to extend the comment period to ensure the public has an opportunity to fully review the relevant documents. The FAA is granting an extension of the comment period for the notice through February 26, 2026.

Issued in Des Plaines, Illinois, on February 5, 2026.
Debra L. Bartell,
Acting Deputy Director, Airports Division, Great Lakes Region.

[FR Doc. 2026-02508 Filed 2-6-26; 8:45 am]

BILLING CODE 4910-13-P